DEPARTMENT OF ENERGY

Certification of the Radiological Condition of the New Brunswick Site in New Brunswick, New Jersey, 1996

AGENCY: Office of Environmental Management, Oak Ridge Operations (ORO), Department of Energy (DOE).

ACTION: Notice of certification.

SUMMARY: The Department of Energy (DOE) has completed remedial actions to decontaminate the New Brunswick site (former New Brunswick Laboratory) in New Brunswick, New Jersey. The property formerly was found to contain quantities of residual radioactive material associated with laboratory operations of the United States Atomic Energy Commission. Based on the analysis of all data collected, DOE has concluded that any residual radiological contamination remaining onsite at the conclusion of DOE's remedial action falls within radiological guidelines in effect at the conclusion of such remedial action.

ADDRESSES: The certification docket is available at the following locations:

U.S. Department of Energy, Public Reading Room, Room 1E-190, Forrestal Building, 1000 Independence Avenue, SW., Washington, DC 20585

U.S. Department of Energy, Public Document Room, Oak Ridge Operations Office, 200 Administration Road, Oak Ridge, Tennessee 27830

New Brunswick Free Public Library, 60 Livingston Avenue, New Brunswick, New Jersey 08901

FOR FURTHER INFORMATION CONTACT: Robert G. Atkin, Project Engineer, Office of Assistant Manager of Environmental Management, Oak Ridge Operations Office, U.S. Department of Energy, P.O. Box 2001, Oak Ridge, Tennessee 37830, Phone: (865) 576-1826, Fax: (865) 574-4724.

SUPPLEMENTARY INFORMATION: The DOE, ORO Office of Environmental Management, has conducted remedial action at the New Brunswick site in New Brunswick, New Jersey, under the Formerly Utilized Sites Remedial Action Program (FUSRAP). The objective of the program is to identify and remediate or otherwise control sites where residual radioactive contamination remains from activities carried out under contract to the Manhattan Engineer District/Atomic Energy Commission during the early years of the nation's atomic energy program.

In October 1997, the U.S. Congress assigned responsibility for management of the program to the U.S. Army Corps of Engineers (USACE). Completion of the certification process was delayed pending preparation of a Memorandum of Understanding between DOE and USACE with regard to completed, remediated sites such as the New Brunswick property. The Memorandum of Understanding between the U.S. DOE and the U.S. Army Corps of Engineers Regarding Program Administration and Execution of the Formerly Utilized Sites Remedial Action Program was signed by the parties in March 1999. Funding to proceed with the completion of DOE closure documentation for several FUSRAP sites, including the New Brunswick site, was obtained from USACE in late 2000.

From 1948 to 1977, the New Brunswick site was used as a general nuclear chemistry laboratory for work related to government reactor and weapons programs. Site structures included a main laboratory building, plutonium laboratory complex containing a hot cell for handling radioactive materials, and nine other support buildings.

During 29 years of operation, the New Brunswick site provided a variety of services using nuclear materials such as thorium and uranium ores, high-purity plutonium, americium, and enriched uranium. In 1960, soil contaminated with residues from pitchblende (a radium-bearing ore) was moved to the site from the Middlesex Municipal Landfill, located in the Borough of Middlesex. The material was mixed with clean soil and used to fill an unused rail spur that entered the eastern side of the property. In 1977, the New Brunswick facility was closed, and laboratory operations and personnel were relocated. In 1990, NBS was formally placed in FUSRAP.

The site was partially remediated in two phases during the late 2970s and early 1980s. Phase 1, completed in 1978, consisted of removing contaminated accessible plumbing, equipment, and portions of floors, walls, and ceilings. Phase 2, conducted from 1981 through 1983, included removal of all aboveground structures, including contaminated concrete foundations and onsite drain lines and radioactively contaminated soil on the front two-thirds of the property. The waste materials were disposed of at the Nevada Test Site.

After Phases 1 and 2 were completed, verification surveys and sampling identified localized areas that were contaminated with uranium, radium, and thorium. Limited sampling and surveying in 1992 indicated that radioactively contaminated soils were present only within the filled railroad spur and a localized spot midway along the southern fenceline. The last phase of remediation, the excavation of the remaining contaminated soil, was completed in 1996.

Post-remedial action surreys conducted in 1996 have demonstrated, and DOE has certified, that the subject property is in compliance with the Department's radiological decontamination criteria and standards in effect at the conclusion of the remedial action. These standards are established to protect members of the general public and occupants of the site and to ensure that future use of the site will result in no radiological exposure above applicable guidelines. These findings are supported by the Department's Certification Docket for the Remedial Action Performed at the New Brunswick Site, in New Brunswick, New Jersey. DOE makes no representation regarding the condition of the site as a result of activities conducted subsequent to DOE's post-remedial action surveys.

The certification docket will be available for review between 9:00 a.m. and 4:00 p.m., Monday through Friday (except Federal holidays), in the DOE Public Reading Room located in Room 1E-190 of the Forrestal Building, 1000 Independence Avenue, SW., Washington, DC. Copies of the certification docket also will be available in the DOE Public Document Room, U.S. Department of Energy, Oak Ridge Operations Office, 200 Administration Road, Oak Ridge, Tennessee, and the New Brunswick Free Public Library, 60 Livingston Avenue, New Brunswick, New Jersey.

DOE, through the Oak Ridge Operations Office of Environmental Management, Oak Ridge Reservation Remediation Management Group, has issued the following statement:

Statement of Certification: New Brunswick Site in New Brunswick, New Jersey

The U.S. Department of Energy (DOE) Oak Ridge Operations (ORO) Office of Environmental Management, Oak Ridge Reservation (ORR) Remediation Management Group, has reviewed and analyzed the radiological data obtained following remedial action at the property identified as Block 598, Lot 6, and Sheet 80 of the Tax Map of the City of New Brunswick, Middlesex County, New Jersey. Based on analysis of all data collected, including post-remedial action surveys, DOE certifies that any residual contamination remaining onsite at the time remedial actions were completed falls within the guidelines, in effect at the conclusion of remedial action, for use of the site without radiological restrictions. This certification of compliance provides assurance that reasonably foreseeable future use of the site will result in no radiological exposure above radiological guidelines, in effect at the conclusion of the remedial action, for protecting members of the general public as well as occupants of the site.

Property owned by: United States of America, 986 Jersey Avenue, New Brunswick, New Jersey 08903.

Issued in Oak Ridge, Tennessee on September 6, 2001.
William M. Seay,
Group Leader, ORR Remediation Management Group.

[FR Doc. 01-23740 Filed 9-21-01; 8:45 am]

BILLING CODE 6450-01-M